DEPARTMENT OF AGRICULTURE

Agricultural Marketing Service

7 CFR Part 1218

[Doc. No. AMS-FV-10-0095]

Blueberry Promotion, Research, and Information Order; Continuance Referendum

AGENCY: Agricultural Marketing Service, USDA.

ACTION: Referendum order.

SUMMARY: This document directs that a referendum be conducted among eligible producers and importers of highbush blueberries to determine whether they favor continuance of the Blueberry Promotion, Research, and Information Order (Order).

DATES: This referendum will be conducted by mail ballot from July 5, 2011, through July 26, 2011. To be eligible to vote in this referendum, blueberry producers and importers must have produced or imported 2,000 pounds or more of highbush blueberries annually during the representative period of January 1, 2010, through December 31, 2010. Ballots must be received by the referendum agents no later than the close of business on July 26, 2011, to be counted.

ADDRESSES: Copies of the Order may be obtained from: Referendum Agent, Research and Promotion Branch (RPB), Fruit and Vegetable Programs (FVP), AMS, USDA, Stop 0244, Room 0632-S, 1400 Independence Avenue, SW., Washington, DC 20250-0244, telephone: 888-720-9917 (toll free), fax: 202-205-2800, e-mail: Veronica.Douglass@ams.usda.gov; or at http://www.ams.usda.gov/fvpromotion.

SUPPLEMENTARY INFORMATION: Pursuant to the Commodity Promotion, Research, and Information Act of 1996 (7 U.S.C. 7411-7425) (Act), it is hereby directed that a referendum be conducted to ascertain whether continuance of the Order is favored by eligible producers and importers of highbush blueberries. The Order is authorized under the Act.

The representative period for establishing voter eligibility for the referendum shall be the period from January 1, 2010, through December 31, 2010. Persons who produced or imported 2,000 pounds or more of highbush blueberries during the representative period are eligible to vote in the referendum. Persons who received an exemption from assessments for the entire representative period are ineligible to vote. The referendum shall be conducted by mail ballot from July 5, 2011, through July 26, 2011.

Section 518 of the Act authorizes continuance referenda. Under section 1218.71(b) of the Order, the Department of Agriculture (Department) shall conduct a referendum every five years or when 10 percent or more of the eligible voters petition the Secretary of Agriculture to hold a referendum to determine whether persons subject to assessment favor continuance of the Order. The Department would continue the Order if continuance of the Order is approved by a majority of the producers and importers voting in the referendum, who also represent a majority of the volume of blueberries produced or imported during the representative period determined by the Secretary.

In accordance with the Paperwork Reduction Act of 1995 (44 U.S.C. chapter 35), the referendum ballot has been approved by the Office of Management and Budget (OMB) and assigned OMB No. 0581-0093. It has been estimated that there are approximately 2,000 producers and 50 importers who will be eligible to vote in the referendum. It will take an average of 15 minutes for each voter to read the voting instructions and complete the referendum ballot.

Referendum Order

Veronica Douglass, RPB, FVP, AMS, USDA, Stop 0244, Room 0632-S, 1400 Independence Avenue, SW., Washington, DC 20250-0244, is designated as the referendum agent to conduct this referendum. The referendum procedures 7 CFR 1218.100 through 1218.107, which were issued pursuant to the Act, shall be used to conduct the referendum.

The referendum agents will mail the ballots to be cast in the referendum and voting instructions to all known highbush blueberry producers and importers of 2,000 pounds or more prior to the first day of the voting period. Persons who are producers and importers during the representative period are eligible to vote. Persons who received an exemption from assessments during the entire representative period are ineligible to vote. Any eligible producer or importer who does not receive a ballot should contact the referendum agent no later than one week before the end of the voting period. Ballots must be received by the referendum agent by 5 p.m. Eastern Daylight Savings Time, July 26, 2011, in order to be counted.

List of Subjects in 7 CFR Part 1218

Administrative practice and procedure, Advertising, Consumer information, Marketing agreements, Blueberry promotion, Reporting and recordkeeping requirements.

Authority: 7 U.S.C. 7411-7425 and 7 U.S.C. 7401.

Dated: March 16, 2011.
David R. Shipman,
Associate Administrator, Agricultural Marketing Service.

[FR Doc. 2011-6827 Filed 3-22-11; 8:45 am]

BILLING CODE 3410-02-P